DEPARTMENT OF VETERANS AFFAIRS

Cost of Living Adjustments for Service-Connected Benefits

AGENCY: Department of Veterans Affairs.

ACTION: Notice.

SUMMARY: As required by the Veterans' Compensation Cost-of-Living Adjustment Act of 2020, the Department of Veterans Affairs (VA) is hereby giving notice of adjustments in certain benefit rates. These adjustments affect the compensation program.

DATES: These adjustments became effective on December 1, 2020, the date provided by Public Law 116-178.

FOR FURTHER INFORMATION CONTACT: Jessica Pierce, Policy and Procedures Staff, Compensation Service, Veterans Benefits Administration, Department of Veterans Affairs, 810 Vermont Avenue NW, Washington, DC 20420, 202-461-9700. (This is not a toll-free telephone number.)

SUPPLEMENTARY INFORMATION: Section 2 of Public Law 116-178 provides for an increase in each of the rates in sections 1114, 1115(1), and 1162 of title 38, United States Code. VA is required to increase these benefit rates by the same percentage as increases in the benefit amounts payable under title II of the Social Security Act. The increased rates are required to be published in the Federal Register.

The Social Security Administration has announced that there will be a 1.3 percent cost-of-living increase in Social Security benefits for 2021. Therefore, applying the same percentage, the following rates for VA's compensation program became effective on December 1, 2020:

Disability evaluation percent | Monthly rate
Disability Compensation
[38 U.S.C. 1114]
10 | $144.14.
20 | 284.93.
30 | 441.35.
40 | 635.77.
50 | 905.04.
60 | 1,146.39.
70 | 1,444.71.
80 | 1,679.35.
90 | 1,887.18.
100 | 3,146.42.
(38 U.S.C. 1114(k) through (t)):
38 U.S.C. 1114(k) | 111.74.
38 U.S.C. 1114(l) | 3,915.14.
38 U.S.C. 1114(m) | 4,320.76.
38 U.S.C. 1114(n) | 4,915.17.
38 U.S.C. 1114(o) | 5,493.95.
38 U.S.C. 1114(p) | 5,493.95.
38 U.S.C. 1114(r) | 2,356.48; 3,510.69.
38 U.S.C. 1114(s) | 3,521.85.
38 U.S.C. 1114(t) | 3,510.69.
Additional Compensation for Dependents
[38 U.S.C. 1115(1)]
38 U.S.C. 1115(1):
38 U.S.C. 1115(1)(A) | 175.43.
38 U.S.C. 1115(1)(B) | 303.90; 87.17.
38 U.S.C. 1115(1)(C) | 117.32; 87.17.
38 U.S.C. 1115(1)(D) | 140.79.
38 U.S.C. 1115(1)(E) | 336.32.
38 U.S.C. 1115(1)(F) | 281.57.
Clothing Allowance
[38 U.S.C. 1162]
| $841.36 per year.

Signing Authority

The Secretary of Veterans Affairs, or designee, approved this document and authorized the undersigned to sign and submit the document to the Office of the Federal Register for publication electronically as an official document of the Department of Veterans Affairs. Brooks D. Tucker, Assistant Secretary for Congressional and Legislative Affairs, Performing the Delegable Duties of the Chief of Staff, Department of Veterans Affairs, approved this document on December 3, 2020, for publication.

Luvenia Potts,
Regulation Development Coordinator, Office of Regulation Policy & Management, Office of the Secretary, Department of Veterans Affairs.

[FR Doc. 2020-27092 Filed 12-9-20; 8:45 am]

BILLING CODE 8320-01-P